DEPARTMENT OF TRANSPORTATION

Federal Aviation Administration

Second Meeting RTCA NextGen Advisory Committee (NAC)

AGENCY: Federal Aviation Administration (FAA), DOT.

ACTION: RTCA NextGen Advisory Committee (NAC).

SUMMARY: The FAA is issuing this notice to advise the public of a meeting of RTCA NextGen Advisory Committee (NAC).

DATES: The meeting will be held February 11, 2011 from 8:30 a.m. to 1 p.m.

ADDRESSES: The meeting will be held at Capitol View Business & Conference Center, Rotunda Terrace Conference Room, 9th Floor, 101 Constitution Ave., NW., Washington, DC 20001. Metro using the red line Union Station exit. Clear security at RTCA NAC welcome desk in the lobby.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the NextGen Advisory Committee meeting. The agenda will include:

• Opening Plenary (Welcome and Introductions).

• Official Statement of Designated Federal Official.

• Review and Approval of September 23, 2010 Meeting Summary.

• Chairman's Report.

• FAA Report.

• Subcommittee Report: NAC Subcommittee and Work Groups.

• Break.

• Future of Aviation Advisory Committee NextGen Recommendations.

• Discussion of FAA Equipage Tasking.

• FAA's 2011 NextGen Implementation Plan.

• Understanding NextGen.

○ Committee Interactive Discussion.

• Anticipated Issues for NAC Consideration and Action at May 19, 2011 meeting.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 13, 2011.
Robert L. Bostiga,
RTCA Advisory Committee.

[FR Doc. 2011-1267 Filed 1-20-11; 8:45 am]

BILLING CODE 4910-13-P